DEPARTMENT OF COMMERCE

Submission for OMB Review; Comment Request

The Department of Commerce will submit to the Office of Management and Budget (OMB) for clearance the following proposal for collection of information under the provisions of the Paperwork Reduction Act (44 U.S.C. Chapter 35).

Agency: National Telecommunications and Information Administration (NTIA).

Title: Computer and Internet Use Supplement to the Census Bureau's Current Population Survey (CPS).

OMB Control Number: 0660-0021.

Form Number(s): None.

Type of Request: Regular submission (Revision of a currently approved collection).

Estimated Number of Respondents: 54,000 households.

Estimated Time per Response: 10 minutes.

Estimated Total Annual Burden Hours: 9,000.

Needs and Uses: NTIA proposes to add 61 questions to the U.S. Census Bureau's July 2015 CPS to gather reliable data on broadband (also known as high-speed Internet) use by U.S. households. President Obama has established a national goal of universal, affordable broadband access for all Americans.¹ To that end, the Administration is working with Congress, the Federal Communications Commission (FCC), and other stakeholders to develop and advance economic and regulatory policies that foster broadband deployment and adoption. Collecting current, systematic, and comprehensive information on broadband use and non-use by U.S. households is critical to allow policymakers not only to gauge progress made to date, but also to identify problem areas with a specificity that permits carefully targeted and cost-effective responses.

¹ See Remarks by President Obama on the State of the Union (Jan. 20, 2015) at https://www.whitehouse.gov/the-press-office/2015/01/20/remarks-president-state-union-address-january-20-2015.

The Census Bureau (“the Bureau”) is widely regarded as a superior collector of data based on its centuries of experience and its scientific methods. Collection of NTIA's requested broadband usage data, moreover, will occur in conjunction with the Bureau's scheduled July 2015 Current Population Survey (CPS), thereby significantly reducing the potential burdens on the Bureau and on surveyed households. Questions on broadband and Internet use have been included in 12 previous CPS surveys.

The U.S. government has an increasingly pressing need for comprehensive broadband data. The General Accountability Office (GAO), NTIA, and the FCC have issued reports noting the lack of useful broadband adoption data for policymakers, and Congress passed legislation—the Broadband Data Improvement Act in 2008 and the American Recovery and Reinvestment Act in 2009—to address this challenge. The Organization for Economic Co-operation and Development (OECD) looks to Census Bureau data as an important input into their inter-country benchmark analyses. Modifying the July CPS to include NTIA's requested broadband data will allow the Commerce Department and NTIA to respond to congressional concerns and directives, and to work with the OECD on its broadband methodologies with more recent data.

Affected Public: Individuals and households.

Frequency: Once.

Respondent's Obligation: Voluntary.

Legal Authority: Title 13, United States Code, Sections 131, 182, and 193.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: April 10, 2015.
Glenna Mickelson,
Management Analyst, Office of the Chief Information Officer.

[FR Doc. 2015-08645 Filed 4-14-15; 8:45 am]

BILLING CODE 3510-06-P